DEPARTMENT OF HEALTH AND HUMAN SERVICES

Centers for Disease Control and Prevention

Agency for Toxic Substances and Disease Registry

Availability of Funds Announced in the CDC/ATSDR Federal Assistance Funding Book

ACTION: General notice.

SUMMARY: The Centers for Disease Control and Prevention (CDC) and the Agency for Toxic Substances and Disease Registry (ATSDR) announce the availability of funds in the CDC/ATSDR Federal Assistance Funding Book (FAFB) for Fiscal Year 2004. This edition of the FAFB is a review of CDC and ATSDR Fiscal Year 2004 competitive assistance programs. Financial assistance programs include grants and cooperative agreements.

The FAFB contains most of CDC's and ATSDR's new competitive opportunities; however, additional grant and cooperative agreement opportunities may become available because of programmatic planning and Congressional action. The funding opportunities will be published in the Federal Register, CDC's and ATSDR's Internet Web site, which can be obtained by accessing http://www.cdc.gov/od/pgo/funding/grantmain.htm, and in addition may be published in the NIH Guide For Grants and Contracts. CDC and ATSDR, as well as the Department of Health and Human Services (HHS), has been very busy this year. In support of health related disease control and prevention activities, we are striving to provide simpler avenues for eligible organizations to apply for funding. We are working in cooperation with HHS and other organizations within HHS to improve our processes related to delivering CDC funding opportunities and awarding grants to eligible applicants. We are currently planning to deploy a new grants management information system, and have implemented processes to streamline our grant making operations. We are participating in pilot programs being conducted throughout the federal government that are designed to move the granting of federal dollars into the world of electronic government. CDC's streamlining efforts are part of HHS' activities to implement the Federal Financial Assistance Management Improvement Act (Pub. L. 106-207). CDC and ATSDR are committed to maximum competition for its grants and cooperative agreement opportunities, and will strive to provide support for all eligible entities that seek to apply for CDC's and ATSDR's financial assistance programs.

Julie Louise Gerberding, M.D., M.P.H.

Table of Contents

1. Introduction

2. How to Use the CDC/ATSDR Federal Assistance Funding Book (FAFB)

3. Terminology

4. Frequently Asked Questions

5. Funding Opportunities by Agency and Center. This notice describes funding for the following ATSDR and CDC discretionary authorities and programs (application receipt deadlines are also provided):

Agency for Toxic Substances and Disease Registry (ATSDR)

Exposure to Tremolite Asbestos in Vermiculite Ore—June 2004

Program to Facilitate Environmental Justice in Minority and Under Served Communities—May 1, 2004

Surveillance of Hazardous Substances—June 1, 2004

The Great Lakes Human Health Effects Research Program—May 2004

Program to Build Capacity to Conduct Site-Specific Health Promotion Activities—July 1, 2004

A Program to Build Capacity to Develop, Implement, and Evaluate Health Education and Health Promotion Activities in Tribal Communities—July 1, 2004

Program to Build Capacity to Conduct Environmental Health Education Activities—July 1, 2004

Program to Build Environmental Public Health Capacity Within Tribal Colleges and Universities—July 2004

Centers for Disease Control and Prevention (CDC)

National Center for Chronic Disease Prevention and Health Promotion (NCCDPHP)

Cancer Surveillance Research with Data Enhancement and Utilization—June 2004

National Programs to Improve the Health, Education, and Well-Being of Young People—December 2004

National Center for Environmental Health (NCEH)

Centers for Genomics and Public Health—February 15, 2004

Addressing Asthma from a Public Health Perspective—March 1, 2004

National Center for HIV, STD, and TB Prevention (NCHSTP)

Translating Proven Interventions for Underserved and Emergent High Risk Populations—March 2004

Public Health Conference Support Cooperative Agreement—Program for Human Immunodeficiency Virus (HIV) Prevention—April 15, 2004

National Center for Infectious Diseases (NCID)

Applied Research in Emerging Infections Investigations of West Nile Virus—May 15, 2004

Epidemiology and Laboratory Capacity (ELC) for Infectious Diseases—Cycle A, January 4, 2004; Cycle B, April 4, 2004

Cooperative Agreement for Research on Prevention of Lyme Disease in Humans in the United States—November 17, 2003

Cooperative Agreement for Research on the Ecology and Control of Tick Vectors of Lyme Disease in the United States—November 17, 2003

Cooperative Agreement for Research on the Laboratory Diagnosis, Immunology, and Pathogenesis of Lyme Disease in the United States—December 1, 2003

National Center for Injury Prevention and Control (NCIPC)

Grants for Acute Care, Rehabilitation, and Disability Prevention Research—February 3, 2004

Grants for Violence-Related Injury Prevention Research: Youth Violence, Suicide, Intimate Partner Violence, and Sexual Violence—February 3, 2004

Grants for New Investigator Training Awards for Unintentional Injury, Violence Related Injury, Biomechanics, and Acute Care, Disability, and Rehabilitation-Related Research—February 3, 2004

Grants for Traumatic Injury Biomechanics Research—February 3, 2004 —Research Grants to Prevent Unintentional Injuries—February 3, 2004

Grants for Dissertation Awards for Doctoral Candidates for Violence-Related Injury Prevention Research in Minority Communities—February 3, 2004

National Immunization Program (NIP)

National Minority Organizations Immunization Projects—March 2004

National Institute for Occupational Safety and Health (NIOSH)

Occupational Safety and Health Research Grants-Investigator-Initiated—All (new competing, revised, and, supplemental applications) February 3, 2004; June 1, 2004; and October 1, 2004. Competing Continuation, Supplemental, and Revised Research Grant/Cooperative Agreements applications—March 1, 2004; July 1, 2004; and November 1, 2004.

Occupational Safety and Health Research Grants-Special Emphasis Research Career Award (K01)—All (new) February 3, 2004; June 1, 2004; and October 1, 2004. Competing Continuation, Supplemental, and Revised Research Grant/Cooperative Agreements applications—March 1, 2004; July 1, 2004; and November 1, 2004.

Occupational Safety and Health Research Grants-Small Grants (R03)—All (new) February 3, 2004; June 1, 2004; and October 1, 2004. Competing Continuation, Supplemental, and Revised Research Grant/Cooperative Agreements applications—March 1, 2004; July 1, 2004; and November 1, 2004.

Occupational Safety and Health Research Grants-Exploratory and Developmental (R21)—All (new) February 3, 2004; June 1, 2004; and October 1, 2004. Competing Continuation, Supplemental, and Revised Research Grant/Cooperative Agreements applications—March 1, 2004; July 1, 2004; and November 1, 2004.

Occupational Safety and Health Training—July 1, 2004

Health and Safety Programs for Construction Work—February 3, 2004.

Surveillance Program—April 1, 2004

Introduction

The purpose of the FAFB is to provide the general public with a single source of program and application information related to CDC's and ATSDR's competitive financial assistance offerings. The FAFB is designed to replace the multiple Federal Register notices that traditionally advertised the availability of CDC and ATSDR discretionary funding for its various programs. It should be noted that additional health promotion and disease prevention program initiatives responsive to new issues or issues unanticipated at the time of publication of the FAFB may be announced through the Federal Register and the CDC Web site, http://www.cdc.gov/od/pgo/funding/grantmain.htm or the ATSDR Web site at http://www.atsdr.cdc.gov/, click on “ATSDR Grants and Cooperative Agreements.” This notice does not change requirements appearing elsewhere in the Federal Register.

The CDC/ATSDR FAFB contains a description of competitive and other financial assistance (grants and cooperative agreements) programs scheduled for awards in Fiscal Year 2004. It includes instructions on how to contact the CDC/ATSDR for information.

Applications and instructions may be downloaded from the CDC Web site listed above. The FAFB also contains instructions for how to obtain application if your organization is not Internet active. Specifically, the following information is included in the FAFB: (1) Center/Institute/Office (CIO) Offering the Funding Program; (2) the Program Announcement Title; (3) the Program Announcement Number (4) the Catalog of Federal Assistance (CFDA) Identification Number; (5) the Program Contact Person, E-Mail Address, and Phone Number; (6) a Description of the Funding Opportunity; (7) Eligible Applicants; (8)Estimated Dollar Amount for this Competition; (9) Estimated Number of Awards to be Made; (10) Estimated or Average Size of Each Award; (11) Estimated Project Period; (12) Estimated Application Availability Date, which is the date further application guidance will be available on the CDC and ATSDR Web site, and the earliest date an application can be accepted; (13) Estimated Application Deadline Date, which is the last date an application can be accepted for review and potential funding; and (14) Estimated Projected Award Date, which is the date that a successful applicant can expect to be awarded funds. Certain other information, including how to obtain and use the FAFB and grant terminology, can also be found in the FAFB.

This notice describes funding for the following CDC and ATSDR discretionary authorities and programs (application deadline dates are also provided):

Agency for Toxic Substances and Disease Registry (ATSDR)

Centers for Disease Control and Prevention (CDC)

The Centers, Institutes, and Offices that comprise CDC are listed below in alphabetical order:

Epidemiology Program Office (EPO)

National Center for Birth Defects and Developmental Disabilities (NCBDDD)

National Center for Chronic Disease Prevention and Health Promotion (NCCDPHP)

National Center for Environmental Health (NCEH)

National Center for Health Statistics (NCHS)

National Center for HIV, STD, and TB Prevention (NCHSTP)

National Center for Infectious Diseases (NCID)

National Center for Injury Prevention and Control (NCIPC)

National Immunization Program (NIP)

National Institute for Occupational Safety and Health (NIOSH)

Public Health Practice Program Office (PHPPO)

How To Use the CDC/ATSDR Federal Assistance Funding Book (FAFB)

It is recommended that you read the introductory materials, terminology section, and individual program announcements listed under each CIO in alphabetical order. At the end of the FAFB, there is an optional form entitled “Grants At A Glance.” This form is provided so that you can record the funding opportunities that are of interest to you. We urge applicants to fully assess their eligibility for grants and cooperative agreements before spending the time and effort to apply.

The full descriptions of the funding opportunities, instructions for applications, application forms, and additional copies of the FAFB can be found at http://www.cdc.gov, click on “Funding” then click on “Grants and Cooperative Agreements.” If you are not Internet active, or you have difficulty downloading this information, you may call 770-488-2700 between 8 a.m. and 4:30 p.m. Eastern Time, Monday through Friday for assistance.

Terminology

Application Deadlines

Definitive deadline information may be found in the full program announcement. For many program announcements, applications will be considered on time if they are received on or before 4 p.m. Eastern Time on the established deadline in the program announcement.

Authorization

The citation of the law authorizing the various assistance programs is provided following the title in the full program announcement published on the CDC and ATSDR Web sites.

Budget Period

The Budget Period is the interval of time that a multi-year period of financial assistance (project period) is divided into for budgetary and funding purposes. Budget periods are usually 12 months long but may be shorter or longer, if appropriate.

CFDA Number

The Catalog of Federal Domestic Assistance (CFDA) is a Government-wide compendium of Federal Programs, projects, services, and activities that provide assistance. Programs listed therein are given a CFDA number.

Cooperative Agreement

A financial assistance mechanism (grant) used when substantial Federal programmatic involvement with the recipient is anticipated by the funding agency during performance of the project. The nature of the involvement will always be specified in the offering or application guidance materials.

Eligibility

The status an entity must possess to be considered for a grant. Authorizing legislation and programmatic regulations specify eligibility for individual grant programs and eligibility may be further restricted for programmatic reasons. In general, assistance is provided to nonprofit organizations and institutions, including faith-based and community-based entities, State and local governments, their agencies, Indian Tribes or tribal organizations, and occasionally to individuals. For-profit organizations are eligible to receive awards under financial assistance programs unless specifically excluded by legislation.

Estimated Amount for This Competition

The funding level listed is provided only as an estimate, and is subject to the availability of funds, Congressional action, and changing program priorities.

Evaluation Criteria

The evaluation criteria are listed in the full program announcement, as published on the CDC or ATSDR Web site, and are used to evaluate, score, and rank applications submitted by an applicant.

Funding Priorities and/or Preferences

Funding preferences, priorities, and special considerations may come from legislation, regulations, or programmatic reasons. These are not the same as review criteria. Funding preferences are any objective factors that would be used to place a grant application ahead of others without the preference on a list of applicants recommended for funding by a review committee. Some programs give preference to organizations that have specific capabilities, or have established relationships with public health organizations that promote CDC's or ATSDR's mission of health and disease prevention. Funding priorities are factors that cause a grant or cooperative agreement application to receive a fixed amount of extra rating points, which may similarly affect the order of applicants on a funding list. Special considerations other than review criteria, preferences, and priorities e.g., are considered in order to ensure an equitable geographic distribution of grant recipients, to meet requirements for urban or rural proportions.

Grant

A grant is a financial assistance (including cooperative agreements) in the form of money, or property in lieu of money, by the Federal government to an eligible recipient. The term does not include any Federal procurement subject to the Federal Acquisition Regulation (FAR); technical assistance (which provides services instead of money); or assistance in the form of revenue sharing, loans, loan guarantees, interest subsidies, insurance, or direct payments of any kind to individuals.

Letter of Intent

A Letter of Intent is a letter that may be requested by the funding program to gauge the interest and the number of full applications anticipated so that the funding program can estimate both the proper number of reviewers and expertise needed to review the applications. A Letter of Intent may be optional or required.

Matching Requirements

Several CDC and ATSDR programs may require a matching amount, or percentage of the total project support, to come from sources other than Federal funds. Matching requirements are generally mandated in the authorizing legislation for specific categories. Also, ATSDR or the CDC awarding CIO may administratively require matching or other cost-sharing requirements. Such requirements are listed in the full program announcement published on the CDC and or ATSDR Web site.

Notice of Grant Award

The Notice of Grant Award (NGA) is the official award document, signed by the Grants Management Officer that (1) Notifies the recipient of the award of a grant; (2) contains or references all the terms and conditions of the grant and Federal funding limits and obligations; and (3) provides the documentary basis for recording the obligation of Federal funds in CDC's accounting system.

Program Announcement Number

The program announcement number is a unique identifier for each program funded by CDC or ATSDR. This number must be included on your application for funding.

Project Period

The total time stated in the Notice of Grant Award (including any amendments) that Federal support is recommended. The project period usually consists of a series of one or more budget periods of one-year duration. Once approved through initial review, continuation of each successive budget period is subject to satisfactory performance, availability of funds, and program priorities. The project period is usually from one to five years.

Technical Assistance

A contact person is listed for each program and his/her e-mail address and telephone number are provided. Some programs have scheduled workshops and conference calls. If you have questions concerning individual programs or the availability of technical assistance, please contact the program contact listed in the full program announcement.

Frequently Asked Questions

1. Where Do I Submit Grant Applications?

The address for submitting your grant application will be published in the full program announcement on the CDC Web site at http://www.cdc.gov/od/pgo/funding/grantmain.htm or the ATSDR Web site at http://www.atsdr.cdc.gov/ and in addition may be published in the NIH Guide to Grants and Contracts.

For general questions about CDC or ATSDR announcements, contact:Technical Information Management Section, CDC Procurement and Grants Office,2920 Brandywine Road,Atlanta, GA 30341-4146,Telephone: (770) 488-2700.

2. How Do I Learn More About a Particular Grant or Cooperative Agreement Program?

In general, the program contact person provides information about the specific grant and cooperative agreement offering and its purpose, and the grants management specialist provides information about the grant/cooperative agreement mechanism and business matters, though their responsibilities often overlap.

3. The Dates Listed in the FAFB and the Dates on the CDC or ATSDR Web Site Do Not Agree. How Do I Know Which Is Correct?

The CDC/ATSDR FAFB dates for estimated application availability, the estimated application deadline date, and the estimated projected award date are based upon the best-known information at the time of publication, often up to nine months in advance of the competitive cycle. Since the full program announcement is published on the CDC and ATSDR Web sites later, the dates in the full program announcement are the correct dates. Thus, the definitive date may be found in the full program announcement.

4. Are Programs Announced in the CDC/ATSDR FAFB Ever Cancelled?

Infrequently, announced programs may be withdrawn from competition. If this occurs, an amendment to the original FAFB Federal Register Notice will be published and in addition, the change will be listed on the CDC or ATSDR Web site.

5. What Is a DUNS Number and Do I Need One?

The Data Universal Numbering Systems (DUNS) number is a unique 9-digit identification number provided by Dun & Bradstreet (D&B). The DUNS number is site-specific. Therefore, each distinct physical location of an entity (such as branches, divisions, and headquarters) may be assigned a DUNS number. In order to provide on-the-spot DUNS Number assignment, D&B does not control or limit who may request or receive a DUNS number. It is the applicant organization's responsibility to manage their DUNS numbers. To obtain a DUNS number, call Dun and Bradstreet at 1-866-705-5711 or visit their Web site at: http://www.dunandbradstreet.com. There is no charge obtaining a number and the number is easy to obtain. If you are unsure whether your organization already has a DUNS number, please contact your institution's grant office for guidance. A DUNS number will be required for all new grant and cooperative agreement awards for FY 2004 including foreign applicant organizations. A DUNS number will not be required of individuals or subrecipients. There should be a field in the new PHS 5161-1 and PHS 398 application forms to include your DUNS number. If the application form you are using does not have a DUNS number field, please write your DUNS number on the top of the application, and/or include your DUNS number in the cover letter of the application. Your organization will need to have a DUNS number in order for an award to be made in FY 2004.

6. Where Can I Find Out About Current Federal Grant and Cooperative Agreement Funding Opportunities?

In addition to the CDC and ATSDR Web sites, the U.S. Government has created and maintains a Web site at http://www.fedgrants.gov and at http://www.grants.gov.

7. Where Can I Obtain Applications for CDC and ATSDR Grant and Cooperative Agreement Funding Opportunities?

For most CDC and ATSDR grant and cooperative agreement announcements, the application form PHS 5161-1 or PHS 398 is used. Please see the full program announcement to see which application to use. Applications and instructions can be found at http://www.cdc.gov/od/pgo/forminfo.htm. When using the PHS 398 application form for CDC grant and cooperative agreement funding opportunities, please adhere to the program announcement instructions. The full program announcement is the definitive guide on forms and location of instructions. If you need assistance, please call the program or business office listed in the full program announcement. For general questions, please call (770) 488-2700. In addition, you may visit the “Notice to Grantees” section on the CDC Web site at http://www.cdc.gov/funding.htm. The Web site is updated frequently and grantees and potential applicants should periodically review the Web site to stay abreast of current issues and changes.

8. If My Institution or Organization Receives Funds From CDC or ATSDR, Are There Any Restrictions on How the Funds May Be Used?

Yes. Page 2 of the Notice of Grant Award contains references to the rules and regulations governing the use of funds awarded by CDC or ATSDR. If you have any business questions regarding a particular award, please contact the Grants Management Specialist or Contract Specialist that is managing the grant or cooperative agreement. For programmatic questions, please contact the project officer assigned to your grant or cooperative agreement.

CDC and ATSDR Program Competitions

This notice describes funding for the CDC and ATSDR discretionary authorities and programs below. Receipt deadlines are provided.

Grants At A Glance

The “Grants At A Glance” form should assist you in reviewing the potential funding opportunities below.

BILLING CODE 4163-18-C

Agency for Toxic Substances and Disease Registry (ATSDR)

Competition Title: Exposure to Tremolite Asbestos in Vermiculite Ore.

Program Announcement Number: 04020.

CFDA Number: 93.161.

Program Contact Person: Kevin Horton or Maggie Warren.

E-Mail Address: dth9@cdc.gov or mcs9@cdc.gov.

Phone Number: (404) 498-0571 or (404) 498-0546.

Competition Description: The purpose of this program is to conduct site-specific health activities related to human exposure to contaminated vermiculite ore at sites identified by the Environmental Protection Agency (EPA) as receiving and/or processing ore from the mine in Libby, Montana.

Eligible Applicants: Assistance will be provided only to the health departments of States or their bona fide agents or instrumentalities. State organizations, including state universities, must establish that they meet their respective state legislature's definition of a state entity or political subdivision to be considered an eligible applicant.

Estimated Amount of This Competition: $300,000.

Estimated Number of Awards to be Made: 4.

Estimated or Average Size of Each Award: $10,000 to $250,000.

Estimated Project Period: 3 Years.

Application Availability Date: April 2004.

Application Deadline: June 2004.

Project Award Date: August 2004.

Competition Title: Program to Facilitate Environmental Justice in Minority and Under Served Communities.

Program Announcement Number: 04021.

CFDA Number: 93.161.

Program Contact Person: Stephanie Miles-Richardson, D.V.M., Ph.D.

E-Mail Address: srm7@cdc.gov.

Phone Number: (404) 498-0111.

Competition Description: The purpose of this program is to assist minority educational institutions in expanding and enhancing educational and research opportunities related to exposure to hazardous substances in the environment, and providing education and information to African American, Hispanic, and other minority and low income communities that are affected by hazardous waste sites and that have environmental justice concerns. This announcement follows a successful five-year project period, which included the development of culturally competent environmental health instructional materials for health professionals, and maintenance and distribution of environmental justice related resources. Community-based workshops on Geographic Information Systems (GIS) were conducted and strategies for assisting communities in identifying the needs of “at risk” populations were also identified. During this second five-year period, the project will continue to conduct outreach to diverse groups and organizations that focus on minority health, environment, and education with the goal of facilitating collaborations and partnerships. Strategies developed during the first program period will be implemented, evaluated, and expanded.

Eligible Applicants: Eligible applicants include: Historically Black Colleges and Universities (HBCUs) and Hispanic Serving Institutions (HSIs) with documented expertise in addressing environmental justice concerns of minority and under served communities.

Estimated Amount of This Competition: $125,000.

Estimated Number of Awards to be Made: 1.

Estimated or Average Size of Each Award: $125,000.

Estimated Project Period: October 1, 2004-September 29, 2009.

Application Availability Date: March 1, 2004.

Application Deadline: May 1, 2004.

Project Award Date: August 1, 2004.

Competition Title: Surveillance of Hazardous Substances Emergency Events.

Program Announcement Number: 04022.

CFDA Number: 93.161.

Program Contact Person: Wendy Kaye/Maureen Orr.

E-Mail Address: wek1@cdc.gov/mco0@cdc.gov.

Phone Number: (404) 498-0555/(404) 498-0559.

Competition Description: The purpose of this program is to assist state health departments in developing a state-based surveillance system for monitoring hazardous substances emergency events. This will allow the state health department to better understand the public health impact of hazardous substances emergencies through this added capacity.

Eligible Applicants: Official public health agencies of States or their bona fide agents or instrumentalities. This includes the District of Columbia, American Samoa, the Commonwealth of Puerto Rico, the Virgin Islands, the Federated States of Micronesia, Guam, the Northern Mariana Islands, the Republic of the Marshall Islands, the Republic of Palau, and Federally recognized Indian Tribal governments. Also eligible are State organizations, including State universities, State colleges, and State research institutions, who must establish that they meet their respective State legislature's definition of a State entity or political subdivision to be considered an eligible applicant.

Estimated Amount of This Competition: $1,450,000.

Estimated Number of Awards to be Made: 15.

Estimated or Average Size of Each Award: $95,000.

Estimated Project Period: 5 years.

Application Availability Date: April 1, 2004.

Application Deadline: June 1, 2004.

Project Award Date: August 1, 2004.

Competition Title: The Great Lakes Human Health Effects Research Program.

Program Announcement Number: 04023.

CFDA Number: 93.161.

Program Contact Person: Dr. Heraline Hicks.

E-Mail Address: heh2@cdc.gov.

Phone Number: (404) 498-0717.

Competition Description: The purpose of the program is to assess the adverse effects of water pollutants, via contaminated fish in the Great Lakes, on the health of persons in the Great Lakes states. The research objectives of this program are to: (1) Build upon and amplify the results from past and on-going research in the Great Lakes basin; (2) develop information, databases and research methodology that will provide long-term benefit to human health effects research in the Great Lakes; (3) provide direction for future health effects research; (4) provide health information to State and local health officials, the concerned public, and their medical health care professionals; and (5) in concert with State and local health officials, increase the public awareness regarding the potential health implications of toxic pollution in the Great Lakes basin; and (6) coordinate as necessary with relevant research programs and activities of other agencies, including those of the Food and Drug Administration (FDA), Centers for Disease Control and Prevention (CDC), National Institutes of Health (NIH), and the Indian Health Service (IHS), as well as the Environmental Protection Agency (EPA), and state and local health departments, to ameliorate adverse public health impacts of persistent toxic substances in the Great Lakes.

Eligible Applicants: Eligible applicants are the Great Lake states and political subdivisions thereof, including federally recognized Indian tribal governments. State organizations, including state universities, state colleges, and state research institutions, must affirmatively establish that they meet their respective state's legislative definition of a state entity or political subdivision to be considered an eligible applicant. The Great Lake states include Illinois, Indiana, Michigan, Minnesota, Ohio, Pennsylvania, New York, and Wisconsin, consistent with Section 106, subsection 118(e) of the Great Lakes Critical Programs Act of 1990 [33 U.S.C. 1268(e)]. ATSDR encourages collaborative efforts among these potential applicants.

Estimated Amount of This Competition: $2,000,000.

Estimated Number of Awards to be Made: 10.

Estimated or Average Size of Each Award: $200,000.

Estimated Project Period: FY 2004-FY 2006.

Application Availability Date: March 2004.

Application Deadline: May 2004.

Project Award Date: September 2004.

Competition Title: Program To Build Capacity To Conduct Site-Specific Health Promotion Activities.

Program Announcement Number: 04024.

CFDA Number: 93.161.

Program Contact Person: Robert Johnson.

E-Mail Address: rdj2@cdc.gov.

Phone Number: (404) 498-0498.

Competition Description: A five-year cooperative agreement program to build capacity to conduct site-specific health promotion activities. The purpose of this program is to conduct site-specific health education and promotion activities, including pediatric environmental health specialty unit (PEHSUs) activities in the areas of health professional education, site-specific medical consultations, and referrals for clinical evaluations. (Note: Due to the ATSDR legislative mandate, clinical treatment cannot be provided.) This program addresses the “Healthy People 2010” educational and community-based programs, environmental health, health communication, and maternal, infant, and child health focus areas.

Eligible Applicants: This program is only directed to national organizations of health professionals that provide environmental health education activities for their membership, as well as environmental public health promotion activities.

Estimated Amount of This Competition: $1,500,000.

Estimated Number of Awards to be Made: 1-2.

Estimated or Average Size of Each Award: $500,000-$1,000,000.

Estimated Project Period: September 30, 2004-October 1, 2009.

Application Availability Date: May 1, 2004.

Application Deadline: July 1, 2004.

Project Award Date: September 30, 2004.

Competition Title: A Program To Build Capacity To Develop, Implement, and Evaluate Health Education and Health Promotion Activities in Tribal Communities.

Program Announcement Number: 04025.

CFDA Number: 93.161.

Program Contact Person: Teresa Nastoff.

E-Mail Address: tbn9@cdc.gov.

Phone Number: (404) 498-0530.

Competition Description: A five-year cooperative agreement program to build capacity, to develop, to implement, and to evaluate health education and health promotion activities in tribal communities. This program addresses the “Healthy People 2010” educational and community-based programs and environmental health focus areas. The cooperative agreement program is designed to assist American Indian and Alaska Native (AI/AN) governments and organizations in addressing present and potential environmental health challenges related to National Priorities List (NPL), Comprehensive Environmental, Response, Compensation, and Liability Act (CERCLA), and other hazardous substances and releases on or adjacent to Indian lands. Specifically, cooperative agreement funds will be used to assist tribal and village governments in addressing community health concerns related to environmental toxins. This will be accomplished by increasing tribal capacity to develop, implement, and evaluate culturally relevant and appropriate environmental health education and promotion activities for AI/AN communities and for the health professionals and para-professionals serving these communities.

Eligible Applicants: This program is directed only to federally-recognized Indian tribes or consortia of Indian tribes. Indian tribes are defined in Section 101(36) [42 U.S.C. 9601 936)] as “any Indian tribe, band, nation, or other organized group or community, including any Alaska Native Village but not including any Alaska Native regional or village corporation, which is recognized as eligible for the special programs and services provided by the United States to Indians because of their status as Indians.”

Estimated Amount of This Competition: $175,000.

Estimated Number of Awards to be Made: 5.

Estimated or Average Size of Each Award: $35,000.

Estimated Project Period: September 30, 2004-October 1, 2009.

Application Availability Date: May 1, 2004.

Application Deadline: July 1, 2004.

Project Award Date: September 30, 2004.

Competition Title: Program To Build Capacity To Conduct Environmental Health Education Activities.

Program Announcement Number: 04026.

CFDA Number: 93.161.

Program Contact Person: Charles Green.

E-Mail Address: clg8@cdc.gov.

Phone Number: (404) 498-0297.

Competition Description: A five-year cooperative agreement program to build capacity to conduct environmental health education activities. This program addresses the “Healthy People 2010” educational and community-based programs, environmental health, health communication, and maternal, infant, and child health focus areas. The purpose of this program is to establish and promote environmental health education programs within an organization's constituent members and the communities they serve. Specifically, cooperative agreement funds will be used to develop and implement environmental health education needs assessment process for the applicants' membership and communities surrounding hazardous waste sites; develop, implement, and evaluate site-specific environmental health education activities based on the results of the needs assessment process; evaluate the effectiveness of each of the implemented activities and the impact of the overall project; and develop a strategy to provide environmental health education materials and programs, and to communicate identified environmental health needs, concerns, programs, and resources to constituent groups.

Eligible Applicants: This program is directed only to national organizations of health professionals that provide environmental health education for their defined membership and constituencies.

Estimated Amount of This Competition: $700,000.

Estimated Number of Awards to be Made: 10.

Estimated or Average Size of Each Award: $70,000.

Estimated Project Period: September 30, 2004-up to October 1, 2009.

Application Availability Date: May 1, 2004.

Application Deadline: July 1, 2004.

Project Award Date: September 15, 2004.

Competition Title: Program to Build Environmental Public Health Capacity Within Tribal Colleges and Universities.

Program Announcement Number: 04027.

CFDA Number: 93.161.

Program Contact Person: Alan Crawford.

E-Mail Address: acrawford@cdc.gov.

Phone Number: (404) 498-0485.

Competition Description: The purpose of this request for applications is to provide a grant for one year (with a project period of up to five years) to assist tribal colleges and universities in the development of environmental health curriculum through the provision of technical assistance in environmental health science, including toxicology, assistance with materials development, and internships in environmental health nursing, education, and science. The implementation of the program will assist American Indian and Alaska Native nations in: (1) Evaluating past and present public health impacts related to hazardous substances exposure; (2) identifying and mitigate the public health impacts of exposures to hazardous substances on or near Indian lands; and, (3) determining and evaluating the scientific, technical and culturally-appropriate response to such exposure.

Eligible Applicants: Eligible applicants are federally recognized tribal colleges and universities as defined in Executive Order 13201.

Estimated Amount of This Competition: $200,000.

Estimated Number of Awards to be Made: 4.

Estimated or Average Size of Each Award: $50,000.

Estimated Project Period: Up to 5 Years.

Application Availability Date: May 2004.

Application Deadline: July 2004.

Project Award Date: September 2004.

National Center for Chronic Disease Prevention and Health Promotion (NCCDPHP)

Competition Title: Cancer Surveillance Research with Data Enhancement and Utilization.

Program Announcement Number: 04029.

CFDA Number: 93.283.

Program Contact Person: Kevin Brady.

E-Mail Address: KBrady@cdc.gov.

Phone Number: (770) 488-4226.

Competition Description: The purpose of this program is to utilize data from the National Program of Cancer Registries (NPCR) to perform enhanced surveillance and operational research to include developing, conducting and evaluating cancer surveillance research projects targeting breast, colorectal, prostate, ovarian, and oral/pharyngeal cancers.

Eligible Applicants: Part I: Breast, Colorectal/Prostate Patterns of Care, Recurrence, and Survival. Determination is based upon silver or gold certification by the North American Association of Central Cancer Registries (NAACCR) for the diagnosis year specified (the diagnosis year certification is the most recent available from NAACCR). Part II: Reporting Pathology Protocols (colon and rectum). Eligibility is limited to NPCR registries, which can demonstrate effective partnership with a laboratory, or laboratory vendor providing pathologic diagnostic services in a National Cancer Institute designated comprehensive cancer or clinical cancer center facility. Part III: Ovarian Cancer Patterns of Care. Eligibility is limited to NPCR registries. Determination of eligibility is based upon NAACCR silver or gold certification for the diagnosis year specified. Part IV: Oral/Pharyngeal Cancer: Date Completeness Quality. Eligibility is limited to NPCR registries. Determination of eligibility is based upon NAACCR silver or gold certification for the year specified.

Estimated Amount of This Competition: $4,000,000.

Estimated Number of Awards to be Made: 8-10.

Estimated or Average Size of Each Award: $400,000.

Estimated Project Period: 3 Years.

Application Availability Date: April 2004.

Application Deadline: June 2004.

Project Award Date: September 2004.

Competition Title: National Programs to Improve the Health, Education, and Well-Being of Young People.

Program Announcement Number: 04010.

CFDA Number: 93.938.

Program Contact Person: Mike Rainey.

E-Mail Address: mrr1@cdc.gov.

Phone Number: (770) 488-6100.

Competition Description: The purpose of this announcement is to improve the education, health, and well-being of young people by strengthening coordinated school health programs and by enabling other youth-serving organizations to address health risks. Award recipients will emphasize efforts to help young people avoid risks (e.g. to avoid using tobacco, alcohol, or drugs; to avoid violence; to avoid sexual intercourse).

Eligible Applicants: Non-profit, non-governmental organizations with a nationwide structure and capacity to achieve the purposes of the priority area applied for. Applicants ideally should have local, state, or regional constituencies representing all states and territories, but at minimum representing 25 states/territories.

Estimated Amount of This Competition: $9,304,000.

Estimated Number of Awards to be Made: Up to 41.

Estimated or Average Size of Each Award: Priority 1: HIV Prevention for School-Age Youth, Category A-Schools, approx. $218,600 Category B-Youth Serving Organizations, approx. $202,000; Priority 2: Integration of School Efforts to Prevent HIV, STDs, and Unintended Pregnancy, Category A—Pregnancy Prevention, approx. $75,000, Category B-STD Prevention $100,000; Priority 3: Abstinence Collaboration and Partnerships, approx. $150,000; Priority 4: Coordinated School Health Programs and Prevention of Chronic Disease Risks, approx. $183,333; Priority 5: Prevention of Foodborne Illnesses and Related School Absence, approx. $125,000; Priority 6: Training and Professional Development, approx. $250,000.

Estimated Project Period: 3 Years.

Application Availability Date: October 2004.

Application Deadline: December 2004.

Project Award Date: March 15, 2004.

National Center for Environmental Health (NCEH)

Competition Title: Centers for Genomics and Public Health.

Program Announcement Number: 04034.

CFDA Number: 93.283.

Program Contact Person: Timothy G. Baker.

E-Mail Address: tgb2@cdc.gov.

Phone Number: (404) 498-1441.

Competition Description: The purpose of this program is to develop Centers for Genomics and Public Health at schools of public health. Each center will establish a regional hub of expertise by coordinating existing programs at the recipient institution and by creating links with local, state, or regional public health programs. Each recipient's Practice Coordinator will help strengthen linkages to health departments and community groups. Centers will also be encouraged to draw on other regional resources, such as professional organizations, the clinical community, and industry.

Funding will allow the Centers to carry out activities in three areas: (1) Contributing to the knowledge base on genomics and public health; (2) providing technical assistance to local, state, and regional public health organizations; and (3) developing and providing training for the current and future public health work force.

Eligible Applicants: Schools of Public Health.

Estimated Amount of This Competition: $3,000,000.

Estimated Number of Awards to be Made: 5.

Estimated or Average Size of Each Award: $600,000.

Estimated Project Period: Up to 5 Years.

Application Availability Date: December 1, 2003.

Application Deadline: February 15, 2004.

Project Award Date: June 30, 2004.

Competition Title: Addressing Asthma from a Public Health Perspective.

Program Announcement Number: 04035.

CFDA Number: 93.283.

Program Contact Person: Kathryn Sunnarborg.

Phone Number: (404) 498-1451.

E-Mail Address: KSunnarborg@cdc.gov.

Competition Description: To provide the impetus to begin development of program capacity to address asthma from a public health perspective (Part A), to continue program development and begin implementation of selected interventions (Part A Enhanced), and to conduct full asthma plan implementation (Part B). Key components of program capacity for asthma include a surveillance system, a statewide coalition, and the identification of appropriate asthma interventions. These activities are captured in a state asthma plan, which is developed in Part A, partially implemented in Part A Enhanced, and fully implemented in Part B.

Eligible Applicants: Part A: Any Indian tribal government, Indian Tribe, or State Public Health Department or their bona fide agents, who have NOT received funding from CDC/NCEH under Program Announcements 99109, 01106, 02085, or 03032. Part A Enhanced: State Health departments from CO, CT, Washington DC, GA, ID, MD, MO, NE, NH, TX, UT, VA, WV, and WI. Part B: Any state not currently receiving funding under Part B of RFA 01106, or under RFA 02085.

Estimated Amount of This Competition: $6,300,000.

Estimated Number of Awards to be Made: 15 (3 Part A, 7 Part A Enhanced, 5 Part B).

Estimated Average Size of Each Award: $200,000 (Part A), $310,000 (Part A Enhanced), $700,000 (Part B).

Estimated Project Period: 3 years (Part A and Part A Enhanced)/5 years (Part B).

Application Availability Date: December 1, 2003.

Application Deadline: March 1, 2004.

Project Award Date: July 1, 2004.

National Center for HIV, STD, and TB Prevention (NCHSTP)

Competition Title: Translating Proven Interventions for Underserved and Emergent High Risk Populations.

Program Announcement Number: 04038.

CFDA Number: 93.941.

Program Contact Person: Craig Studer.

E-Mail Address: cstuder@cdc.gov.

Phone Number: (404) 639-5389.

Competition Description: This project will develop tools for rapid assessment of populations that have been identified as having evidence of elevated HIV exposure risk, but for whom research studies identifying effective prevention interventions have not been published. After the rapid assessment of the population, the applicant will need to adapt effective interventions used for other populations to the needs of the target population. The applicant, with the direction from CDC, will compile a manual of rapid assessment procedures and steps taken to use the assessment data for adapting and evaluating the adapted intervention.

Eligible Applicants: State and local health departments, public and private nonprofit and for-profit organizations.

Estimated Amount of This Competition: $1,200,000.

Estimated Number of Awards to be Made: 4.

Estimated or Average Size of Each Award: $300,000.

Estimated Project Period: 3 Years.

Application Availability Date: January 2004.

Application Deadline: March 2004.

Project Award Date: July 15, 2004.

Competition Title: Public Health Conference Support Cooperative Agreement—Program for Human Immunodeficiency Virus (HIV) Prevention.

Program Announcement Number: 04039.

CFDA Number: 93.941.

Program Contact Person: Victoria Saho.

E-Mail Address: vsaho@cdc.gov.

Phone Number: (404) 639-5211.

Competition Description: The purpose of conference support funding is to provide partial support for specific non-federal conferences in the areas of health promotion and disease prevention information/education programs pertaining to HIV prevention. This program addresses the Healthy People 2010 focus area of HIV.

Eligible Applicants: Letters of intent (LOI) and applications may be submitted by nonprofit organizations, government agencies, tribal governments, and private corporations. These include: Community-based organizations, research institutions, state or local health departments, hospitals, universities or colleges, faith based organizations, technical school, other non-profit organizations, federally and non-federally recognized American Indian/Alaskan Native (AI/AN) tribal governments and corporations that qualify under the Indian Civil Rights Acts, including State Charter Tribes, Urban Indian Health Programs, Indian Health Boards, Inter-tribal Councils, and other Tribal Organizations, including urban and eligible inter-tribal consortia. Faith-based organizations are eligible to apply for these funds.

Estimated Amount of This Competition: $112,000.

Estimated Number of Awards to be Made: 5.

Estimated or Average Size of Each Award: $20,000.

Estimated Project Period: Awards will begin on or about April 1, 2004 and will be made for a 12-month budget and project period. Conferences planned for April 1, 2004 through September 30, 2004 will be considered for funding.

LOI Deadline Date: Submit your LOI on or before January 12, 2004.

Application Availability Date: February 25, 2004.

Application Deadline: April 15, 2004.

Project Award Date: May 15, 2004.

National Center for Infectious Diseases (NCID)

Competition Title: Applied Research in Emerging Infections Investigations of West Nile Virus.

Program Announcement Number: 04052.

CFDA Number: 93.283.

Program Contact Person: Dr. John Roehrig.

E-Mail Address: jtr1@cdc.gov.

Phone Number: (970) 221-6442.

Competition Description: The West Nile (WN) virus outbreak continues to expand in the United States. The persistence of WN virus in overwintering mosquitoes suggests that WN virus will become enzootic in the U.S. for the foreseeable future. The natural transmission cycle of WN virus involves mosquitoes becoming infected by feeding on birds infected with the virus. Many mammal-biting mosquito species have been infected with WN virus. This observation has been accompanied by an increase in WN virus infections of mammalian species other than humans and equines (e.g. bats, squirrels, cats, chipmunks, rabbits, and skunks). This expanded epizootic, which again occurred during the peak southern bird migration, emphasizes the need for continued vigilance for the spread of the virus beyond the outbreak epicenter. The purpose of the program is to provide assistance to organizations in developing applied research efforts pertaining to West Nile (WN) virus and other arboviruses that occur in the United States (U.S.).

Eligible Applicants: Applications may be submitted by public and private nonprofit organizations and by governments and their agencies; that is, universities, colleges, research institutions, hospitals, other public and private nonprofit organizations, State and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations. Faith-based organizations are eligible to apply for these funds.

Estimated Amount of This Competition: $2,000,000.

Estimated Number of Awards to be Made: 12.

Estimated or Average Size of Each Award: $150,000.

Estimated Project Period: 3 Years.

Application Availability Date: March 14, 2004.

Application Deadline: May 15, 2004.

Project Award Date: September 1, 2004.

Competition Title: Epidemiology and Laboratory Capacity (ELC) for Infectious Diseases.

Program Announcement Number: 04040.

CFDA Number: 93.283.

Program Contact Person: Debbie Deppe, M.P.A.

E-Mail Address: dadl@cdc.gov.

Phone Number: (404) 639-4668.

Competition Description: The purpose of the Epidemiology and Laboratory Capacity in Infectious Diseases (ELC) program is to assist State and eligible local public health agencies in strengthening basic epidemiologic and laboratory capacity to address infectious disease threats with a focus on notifiable diseases, food-, water-, and vector-borne diseases, vaccine-preventable diseases, and drug-resistant infections. Awards are intended to support activities that enhance the ability of a program to identify and monitor the occurrence of infectious diseases of public health importance in a community, characterize disease determinants, identify and respond to disease outbreaks and other infectious disease emergencies, use public health data for priority setting and policy development, and assess the effectiveness of activities. Strengthening collaboration between laboratory and epidemiology practice is a crucial component of this program.

Eligible Applicants: Assistance will be provided only to the health departments of states or their bona fide agents, including the District of Columbia, the Commonwealth of Puerto Rico, the Virgin Islands, the Commonwealth of the Northern Mariana Islands, American Samoa, Guam, federally recognized Indian tribal governments, the Federated States of Micronesia, the Republic of the Marshall Islands, and the Republic of Palau. In addition, official public health agencies of city governments, with jurisdictional populations greater than 1,500,000, or county governments, with jurisdictional populations greater than 8,000,000 (based on 2000 census data), are eligible to apply.

Funding preference will be given to current ELC grantees.

Estimated Amount of This Competition: Cycle A: $20,000,000 Cycle B: $16,000,000.

Estimated Number of Awards to be Made: 45.

Estimated or Average Size of Each Award: $800,000.

Estimated Project Period: 5 Years.

Application Availability Date: Cycle A: November 1, 2003, Cycle B: February 3, 2004.

Application Deadline: Cycle A: January 4, 2004, Cycle B: April 1, 2004. Current ELC grantees should submit an application for the cycle they are currently in. New applicants may apply for either cycle, but not both.

Project Award Date: Cycle A: April 1, 2004, Cycle B: July 1, 2004.

Competition Title: Cooperative Agreement for Research on Prevention of Lyme Disease in Humans in the United States.

Program Announcement Number: 04008.

CFDA Number: 93.942.

Program Contact Person: Barbara Stewart.

E-Mail Address: bsg2@cdc.gov.

Phone Number: (404) 639-0044.

Competition Description: The incidence of Lyme disease in the United States has been increasing and is likely to continue to increase unless affected communities and populations at risk develop and implement integrated control and prevention strategies. In addition, there is a need to explore new methods of Lyme disease prevention and new treatment regimens that may yield higher levels of community and individual participation and behavior change than existing strategies. The purpose of the program is to evaluate and compare effectiveness and cost of established as well as novel methods for decreasing the incidence of Lyme disease in humans. The program's overall objective is to find the most effective strategies to lower the incidence of Lyme disease in endemic areas.

Eligible Applicants: Applications may be submitted by public and private nonprofit organizations and by governments and their agencies; that is, universities, colleges, technical schools, research institutions, hospitals, other public and private nonprofit organizations, community-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, political subdivisions of states (in consultation with states), federally recognized Indian tribal governments, Indian tribes, or Indian tribal organizations. Faith-based organizations are eligible to apply for these funds.

Estimated Amount of This Competition: $1,300,000.

Estimated Number of Awards to be Made: 2.

Estimated or Average Size of Each Award: $650,000.

Estimated Project Period: 4 Years.

Application Availability Date: October 1, 2003.

Application Deadline: November 17, 2003.

Project Award Date: February 28, 2004.

Competition Title: Cooperative Agreement for Research on the Ecology and Control of Tick Vectors of Lyme Disease in the United States.

Program Announcement Number: 04007.

CFDA Number: 93.942.

Program Contact Person: Joe Piesman.

E-Mail Address: jfp2@cdc.gov.

Phone Number: (970) 221-6408.

Competition Description: The purpose of the program is to increase the understanding of the ecology of Lyme disease in the United States, especially in high risk areas, and to test available methods for controlling tick vectors of Lyme disease that will lead directly to the design of new prevention strategies to limit the transmission of the etiologic agent of Lyme disease, Borrelia burgdorferi. Awards will be made in two separate categories, (1) tick ecology projects and (2) tick control projects.

Eligible Applicants: Applications may be submitted by public and private nonprofit organizations and by governments and their agencies; that is, universities, colleges, technical schools, research institutions, hospitals, other public and private nonprofit organizations, community-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, political subdivisions of states (in consultation with states), federally recognized Indian tribal governments, Indian tribes, or Indian tribal organizations. Faith-based organizations are eligible to apply for these funds.

Estimated Amount of This Competition: $1,300,000.

Estimated Number of Awards to be Made: 4.

Estimated or Average Size of Each Award: $325,000.

Estimated Project Period: 4 Years.

Application Availability Date: October 1, 2003.

Application Deadline: November 17, 2003.

Project Award Date: February 28, 2004.

Competition Title: Cooperative Agreement for Research on the Laboratory Diagnosis, Immunology, and Pathogenesis of Lyme Disease in the United States.

Program Announcement Number: 04006.

CFDA Number: 93.942.

Program Contact Person: Barbara Stewart.

E-Mail Address: bsg2@cdc.gov.

Phone Number: (404) 639-0044.

Competition Description: The purposes of the program are to develop improved and standardized laboratory tests to identify and characterize infection by Borrelia burgdorferi and related Borrelia species in humans and to better understand the immunology and pathogenic mechanisms of B. burgdorferi. Better laboratory methods can facilitate earlier and more accurate diagnosis and appropriate treatment of Lyme disease, thus preventing secondary consequences of infection. Better laboratory methods also can be used for improved surveillance and understanding of the epidemiology of Lyme disease in communities.

Immunology and pathogenesis studies can enhance understanding of host responses to infection, leading to improved prevention or intervention strategies such as vaccination.

Eligible Applicants: Applications may be submitted by public and private nonprofit organizations and by governments and their agencies; that is, universities, colleges, technical schools, research institutions, hospitals, other public and private nonprofit organizations, community-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, political subdivisions of states (in consultation with States), federally recognized Indian tribal governments, Indian tribes, or Indian tribal organizations. Faith-based organizations are eligible to apply for these funds.

Estimated Amount of This Competition: $1,300,000.

Estimated Number of Awards to be Made: 7.

Estimated or Average Size of Each Award: $200,000.

Estimated Project Period: 4 Years.

Application Availability Date: October 1, 2003.

Application Deadline: December 1, 2003.

Project Award Date: February 28, 2004.

National Center for Injury Prevention and Control (NCIPC)

Competition Title: Grants for Acute Care, Rehabilitation, and Disability Prevention Research.

Program Announcement Number: 04044.

CFDA Number: 93.136.

Program Contact Person: Paul Smutz.

E-Mail Address: pos1@cdc.gov.

Phone Number: (770) 488-1508.

Competition Description: In conducting activities to achieve the purposes of this program, the recipient will be responsible for one of the following research activities:

1. Develop and evaluate protocols that provide onsite interventions in acute care settings or linkages to off-site services for patients at risk of injury or psychosocial problems following injury.

2. Identify methods and strategies to ensure that people with traumatic brain injury (TBI) and spinal cord injury (SCI) receive needed services.

3. Develop and evaluate methods of using point-of-care clinical information systems to report injuries and other acute health problems to public health agencies.

Eligible Applicants: Applications may be submitted by public and private nonprofit and for profit organizations and by governments and their agencies; that is, universities, colleges, technical schools, research institutions, hospitals, other public and private nonprofit and for profit organizations, community-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organization, and small, minority, and/or women-owned businesses. Faith-based organizations are eligible to apply for these funds.

Estimated Amount of This Competition: $600,000.

Estimated Number of Awards to be Made: 2.

Estimated or Average Size of Each Award: $300,000.

Estimated Project Period: 3 Years.

Application Availability Date: November 3, 2003.

Application Deadline: February 3, 2004.

Project Award Date: August 1, 2004.

Competition Title: Grants for Violence-Related Injury Prevention Research: Youth Violence, Suicide, Intimate Partner Violence, and Sexual Violence.

Program Announcement Number: 04045.

CFDA Number: 93.136.

Program Contact Person: Paul Smutz.

E-Mail Address: pos1@cdc.gov.

Phone Number: (770) 488-1508.

Competition Description: NCIPC is soliciting investigator-initiated research that will help expand and advance our understanding of violence, its causes, and prevention strategies. The following research themes are the focus of this investigator-initiated solicitation:

1. Evaluate strategies for disseminating and implementing evidence-based interventions or policies for the prevention of child maltreatment or youth violence;

2. Evaluate the efficacy and effectiveness of interventions, programs, and policies to prevent intimate partner violence, sexual violence (includes both sexual violence against adults and child sexual abuse), child maltreatment, youth violence or suicidal behavior; and

3. Identify shared and unique risk and protective factors for the perpetration of intimate partner violence, sexual violence, child maltreatment, youth violence, or suicidal behavior, and examine the relationships among these forms of violence.

Eligible Applicants: Applications may be submitted by public and private nonprofit and for profit organizations and by governments and their agencies; that is, universities, colleges, technical schools, research institutions, hospitals, other public and private nonprofit and for profit organizations, community-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organization, and small, minority, and/or women-owned businesses. Faith-based organizations are eligible to apply for these funds.

Estimated Amount of This Competition: $2,600,000.

Estimated Number of Awards to be MADE: 9.

Estimated or Average Size of Each Award: $275,000.

Estimated Project Period: 3 Years.

Application Availability Date: November 3, 2003.

Application Deadline: February 3, 2004.

Project Award Date: August 1, 2004.

Competition Title: Grants for New Investigator Training Awards for Unintentional Injury, Violence Related Injury, Biomechanics, and Acute Care, Disability, and Rehabilitation-Related Research.

Program Announcement Number: 04046.

CFDA Number: 93.136.

Program Contact Person: Paul Smutz.

E-Mail Address: pos1@cdc.gov.

Phone Number: (770) 488-1508.

Competition Description: Consideration of research that addresses one of the following research areas:

(1) Violence-dissemination and implementation of interventions for violence prevention; effectiveness of interventions, programs, and policies to prevent violence; risk and protective factors for violence perpetration.

(2) Unintentional Injury-Dissemination of effective interventions; evaluation of the usability of an intervention package for moving effective interventions to practice and policy; effectiveness of interventions; identification of risk and protective factors for injuries; development of measures of supervision and sports injuries.

(3) Acute Care, Disability, and Rehabilitation-evaluation of protocols for onsite interventions and linkage to offsite services for patients at risk of injury or psychological problems following injury; identify of strategies to ensure people with SCI and TBI receive services; evaluation of injury clinical information systems.

(4) Biomechanics-build on the basic knowledge of biomechanics and encourage interdisciplinary intervention oriented injury control research as supported in the CDC Injury Research Agenda.

Eligible Applicants: Applications may be submitted by public and private nonprofit and for profit organizations and by governments and their agencies; that is, universities and colleges (including but not limited to schools or departments of public health, medicine, nursing, criminal justice, bioengineering, or the behavioral or social sciences), technical schools, research institutions, hospitals, other public and private nonprofit and for profit organizations, community-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organization, and small, minority, and/or women-owned businesses. Applicants must have a research or a health-professional doctorate-level degree from an accredited program and have demonstrated the capacity or potential for highly productive research in the period after the doctorate, commensurate with level of experience. Applicants who have been the principal investigator on an R01 or R01 equivalent health-related research grant or who have had equivalent injury related research support from an existing Injury Control Research Center (ICRC) are not eligible. Recipients of dissertation research grants or NIH Small Grant Awards are eligible to apply.

Estimated Amount of This Competition: $400,000.

Estimated Number of Awards to be Made: 4.

Estimated or Average Size of Each Award: $100,000.

Estimated Project Period: 1 Year.

Application Availability Date: November 3, 2003.

Application Deadline: February 3, 2004.

Project Award Date: August 1, 2004.

Competition Title: Grants for Traumatic Injury Biomechanics Research.

Program Announcement Number: 04047.

CFDA Number: 93.136.

Program Contact Person: Paul Smutz.

E-Mail Address: pos1@cdc.gov.

Phone Number: (770) 488-1508.

Competition Description: Consideration of research that addressees the following: High priority: (1) Use biomechanics research and knowledge of injury tolerance and mechanisms to develop and/or evaluate interventions that address falls among children and the elderly, injuries in mass trauma events, sports/physical activity/recreation injuries, motorcycling/bicycling/pedestrian injuries and motor vehicle injuries to child occupants and older drivers; (2) Identify the biomechanics and specific injuries that would be highly predictive of diagnoses of intimate partner violence and child maltreatment, and improve case definitions. Lower priority: (1) Advance the biomechanical understanding of traumatic injury though biofidelic model development, injury assessment technology improvements, and research into injury mechanisms and biomechanical responses; (2) Define human tolerance limits for injury with respect to age, fitness and gender; define injury tolerance of tissue, bone, and other structures for developing interventions; (3) Identify modifiable risk factors for and mechanisms of nonfatal neck, back, and soft tissue (whiplash-like) injuries.

Eligible Applicants: Applications may be submitted by public and private nonprofit and for profit organizations and by governments and their agencies; that is, universities, colleges, technical schools, research institutions, hospitals, other public and private nonprofit and for profit organizations, community-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organization, and small, minority, and/or women-owned businesses. Faith-based organizations are eligible to apply for these funds.

Estimated Amount of This Competition: $1,100,000.

Estimated Number of Awards to be Made: 3-4.

Estimated or Average Size of Each Award: $275,000.

Estimated Project Period: 3 Years.

Application Availability Date: November 3, 2003.

Application Deadline: February 3, 2004.

Project Award Date: August 1, 2004.

Competition Title: Research Grants to Prevent Unintentional Injuries.

Program Announcement Number: 04048.

CFDA Number: 93.136.

Program Contact Person: Paul Smutz.

Phone Number: (770) 488-1508.

E-Mail Address: pos1@cdc.gov.

Competition Description: Consideration of research that addresses the following:

1. Develop methods to better define and measure supervision, especially in children.

2. Evaluate existing and develop new methods to obtain exposure and injury incidence data for sports, exercise and recreation-related injuries.

3. Identify risk and protective factors related to childhood falls, safe motor vehicle use by older adults, or car crashes involving teens.

4. Evaluate environmental, behavioral, legislative, or regulatory interventions to prevent injuries related to sports, exercise, and, recreation or pedestrian crashes.

5. Develop and evaluate the usability of an intervention package for moving effective interventions to public health practice and policy, especially for older adult falls prevention or transportation safety.

6. Evaluate strategies to increase dissemination of effective interventions to reduce injuries that: Are related to alcohol-impaired driving; occur at home and in the community; are due to falls at home among older community-dwelling adults; or sports, recreation and exercise-related.

Eligible Applicants: Applications may be submitted by public and private nonprofit and for profit organizations and by governments and their agencies; that is, universities, colleges, technical schools, research institutions, hospitals, other public and private nonprofit and for profit organizations, community-based organizations, state and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organization, and small, minority, and/or women-owned businesses. Faith-based organizations are eligible to apply for these funds.

Estimated Amount of This Competition: $800,000.

Estimated Number of Awards to be Made: 3.

Estimated or Average Size of Each Award: $265,000.

Estimated Project Period: 3 Years.

Application Availability Date: November 3, 2003.

Application Deadline: February 3, 2004.

Project Award Date: August 1, 2004.

Competition Title: Grants for Dissertation Awards for Doctoral Candidates for Violence-Related Injury Prevention Research in Minority Communities.

Program Announcement Number: 04049.

CFDA Number: 93.136.

Program Contact Person: Paul Smutz.

E-Mail Address: pos1@cdc.gov.

Phone Number: (770) 488-1508.

Competition Description: To achieve the purpose of this program, the recipient will be responsible for one of the following activities:

Violence

(1) Evaluating strategies for disseminating and implementing evidence-based interventions or policies for the prevention of intimate partner violence, sexual violence, youth violence, suicide, and child maltreatment.

(2) Evaluating the efficacy, effectiveness, and cost effectiveness of interventions, programs, and policies to prevent intimate partner violence, sexual violence, youth violence, suicide, and child maltreatment.

(3) Identifying shard and unique risk and protective factors for the perpetration of intimate partner violence and sexual violence and examine the relationships among these forms of violence and others such as child maltreatment, youth violence, or suicidal behavior.

Unintentional Injury

Dissemination of effective interventions; evaluation of the usability of an intervention package for moving effective interventions to practice and policy; effectiveness of interventions; identification of risk and protective factors for injuries; development of measures of supervision and sports injuries.

Eligible Applicants: Assistance will be provided to any United States public or private institution. The institution must support an accredited doctoral level training program. The performance site must be domestic. Applicants must be students in good standing enrolled in an accredited doctoral degree program. The applicant must have the authority and responsibility to carry out the proposed project. Applicants must be conducting or intending to conduct research in one of the areas described under the “Research Objectives” in the Program Requirement's section of this announcement. To receive this funding, applicants must have successfully defended their dissertation proposal. This must be verified in a letter of certification from the mentor (the chair or another member of the dissertation committee). CDC requests that, if available, the letter of certification be submitted with the grant application, or before the negotiation and award.

Estimated Amount of This Competition: $120,000.

Estimated Number of Awards to be Made: 6.

Estimated or Average Size of Each Award: $20,000.

Estimated Project Period: 1 Year.

Application Availability Date: November 3, 2003.

Application Deadline: February 3, 2004.

Project Award Date: August 1, 2004.

National Immunization Program (NIP)

Competition Title: National Minority Organizations Immunization Projects.

Program Announcement Number: 04051.

CFDA Number: 93.185.

Program Contact Person: Valerie Morelli.

E-Mail Address: VMorelli@cdc.gov.

Phone Number: (404) 639-8091.

Competition Description: The purpose of this cooperative agreement is to assist National Minority Organizations (NMOs) with the promotion and improvement of childhood, adolescent, and adult immunization coverage levels. Applicants must allocate a percentage of the funds awarded to subcontract with affiliate minority Community Based Organizations (CBOs). Focus is on technical assistance to and training of CBOs to identify and document effective models of collaboration at the community level to improve immunization access and levels among racial and ethnic minorities. Other requirements include development and dissemination of education products to be shared with other national organizations, State and local health agencies, and other CBOs. Development and implementation of a plan to ensure sustainability of program activities to ensure its continuation after the end of the project period is also necessary.

Eligible Applicants: Established, tax-exempt national organizations that coordinate public health or related programs serving racial or ethnic minority populations within a major portion or region of the United States through their own offices or organizational affiliates. Faith-based organizations are eligible to apply for these funds. Groups recognized as racial and ethnic minorities include (but are not limited to) African Americans, Alaskan Natives, Asian Americans, Caribbean Americans, Latinos/Hispanics, Native Americans, and Pacific Islanders.

Estimated Amount for This Competition: $750,000.

Estimated Number of Awards to be Made: 3.

Estimated or Average Size of Each Award: $250,000.

Estimated Project Period: 3 years.

Application Availability Date: January 2004.

Application Deadline: March 2004.

Projected Award Date: July 1, 2004.

National Institute for Occupational Safety and Health (NIOSH)

Competition Title: Occupational Safety and Health Research Grants—Investigator-Initiated (R01).

Program Announcement Number: NIOSH-1.

CFDA Number: 93.262 (R01).

Program Contact Person: Michael Galvin.

E-Mail Address: MGalvin@cdc.gov.

Phone Number: (404) 498-2524.

Competition Description: NIOSH supports research to identify and investigate the relationships between hazardous working conditions and associated occupational diseases and injuries; to develop more sensitive means of evaluating hazards at work sites, as well as methods for measuring early markers of adverse health effects and injuries; to develop new protective equipment, engineering control technology, and work practices to reduce the risks of occupational hazards; and, to evaluate the technical feasibility or application of a new or improved occupational safety and health procedure, method, technique, or system.

The announcement for this program is published in the NIH Guide. See http://www.cdc.gov/niosh for links to the announcements.

Eligible Applicants: Eligible applicants include domestic and foreign, public and private nonprofit and for-profit organizations and by governments and their agencies; that is, universities, colleges, research institutions, hospitals, and other public and private organizations, including state and local governments or their bona fide agents, and federally recognized Indian tribal governments, Indian tribes, or Indian tribal organizations. Racial/ethnic minority individuals, women, and persons with disabilities are encouraged to apply as Principal Investigators. Faith-based organizations are eligible to apply for these funds.

Estimated Amount of This Competition: $38,000,000.

Estimated Number of Awards To Be Made: 50.

Estimated or Average Size of Each Award: $30,000 to $400,000, average $300,000.

Estimated Project Period: Contact NIOSH Extramural Program Office, http://www.cdc.gov/niosh/extramur.html.

Application Availability Date: Contact NIOSH Extramural Program Office, http://www.cdc.gov/niosh/extramur.html.

Application Deadline: All (new) February 3, June 1, and October 1, 2004. Competing Continuation, Supplemental, and Revised Research Grant/Cooperative Agreements applications—March 1, 2004, July 1, 2004, and November 1, 2004.

Project Award Date: From 4 to 5 months, with an additional 4 to 5 months for program review and funding.

Competition Title: Occupational Safety and Health Research Grants—Special Emphasis Research Career Award (K01).

Program Announcement Number: NIOSH-2.

CFDA Number: 93.262 (K01).

Program Contact Person: Gwendolyn Cattledge.

E-Mail Address: GCattledge@cdc.gov.

Phone Number: (404) 498-2508.

Competition Description: Special Emphasis Research Career Award (SERCA) Grants (K01) are an important mechanism used in the occupational safety and health research grants program to attract new investigators into occupational safety and health. NIOSH supports research to identify and investigate the relationships between hazardous working conditions and associated occupational diseases and injuries; to develop more sensitive means of evaluating hazards at work sites, as well as methods for measuring early markers of adverse health effects and injuries; to develop new protective equipment, engineering control technology, and work practices to reduce the risks of occupational hazards; and to evaluate the technical feasibility or application of a new or improved occupational safety and health procedure, method, technique, or system.

Eligible Applicants: Eligible applicants include domestic and foreign, public and private nonprofit and for-profit organizations and governments and their agencies; that is, universities, colleges, research institutions, hospitals, and other public and private organizations, including state and local governments or their bona fide agents, and federally recognized Indian tribal governments, Indian tribes, or Indian tribal organizations. Racial/ethnic minority individuals, women, and persons with disabilities are encouraged to apply as Principal Investigators. Faith-based organizations are eligible to apply for these funds.

Estimated Amount of This Competition: $4,000,000.

Estimated Number of Awards To Be Made: 20.

Estimated or Average Size of Each Award: $30,000 to $400,000, average $200,000.

Estimated Project Period: Contact NIOSH Extramural Program Office, http://www.cdc.gov/niosh/extramur.html.

Application Availability Date: Contact NIOSH Extramural Program Office, http://www.cdc.gov/niosh/extramur.html.

Application Deadline: All (new) February 3, June 1, and October 1, 2004. Competing Continuation, Supplemental, and Revised Research Grant/Cooperative Agreements applications—March 1, 2004, July 1, 2004, and November 1, 2004.

Project Award Date: From 4 to 5 months, with an additional 4 to 5 months for program review and funding.

Competition Title: Occupational Safety and Health Research Grants—Small Grants (R03).

Program Announcement Number: NIOSH-3.

CFDA Number: 93.262 (R03).

Program Contact Person: Michael Galvin.

E-Mail Address: MGalvin@cdc.gov.

Phone Number: (404) 498-2524.

Competition Description: The NIOSH Small Grant (R03) program is one of the mechanisms used in the occupational safety and health research grants program. NIOSH supports research to identify and investigate the relationships between hazardous working conditions and associated occupational diseases and injuries; to develop more sensitive means of evaluating hazards at work sites, as well as methods for measuring early markers of adverse health effects and injuries; to develop new protective equipment, engineering control technology, and work practices to reduce the risks of occupational hazards; and to evaluate the technical feasibility or application of a new or improved occupational safety and health procedure, method, technique, or system.

Eligible Applicants: Eligible applicants include domestic and foreign, public and private nonprofit and for-profit organizations and by governments and their agencies; that is, universities, colleges, research institutions, hospitals, and other public and private organizations, including State and local governments or their bona fide agents, and federally recognized Indian tribal governments, Indian tribes, or Indian tribal organizations. Racial/ethnic minority individuals, women, and persons with disabilities are encouraged to apply as Principal Investigators. Faith-based organizations are eligible to apply for these funds.

Estimated Amount of This Competition: $4,000,000.

Estimated Number of Awards to be Made: 30.

Estimated or Average Size of Each Award: $30,000 to $200,000, average $130,000.

Estimated Project Period: Contact NIOSH Extramural Program Office or visit http://www.cdc.gov/niosh/extramur.html.

Application Availability Date: Contact NIOSH Extramural Program Office or visit http://www.cdc.gov/niosh/extramur.html.

Application Deadline: All (new) February 3, June 1, and October 1, 2004. Competing Continuation, Supplemental, and Revised Research Grant/Cooperative Agreements applications—March 1, 2004, July 1, 2004, and November 1, 2004. To request application: Please contact NIOSH Extramural Program Office or visit http://www.cdc.gov/niosh/extramur.html.

Project Award Date: From 4 to 5 months, with an additional 4 to 5 months for program review and funding.

Competition Title: Occupational Safety and Health Research Grants-Exploratory and Developmental (R21).

Program Announcement Number: NIOSH-4.

CFDA Number: 93.262 (R21).

Program Contact Person: Michael Galvin.

E-Mail Address: MGalvin@cdc.gov.

Phone Number: (404) 498-2524.

Competition Description: Exploratory and Developmental (R21) research program is another mechanism used in the occupational safety and health research grants program. NIOSH supports research to identify and investigate the relationships between hazardous working conditions and associated occupational diseases and injuries; to develop more sensitive means of evaluating hazards at work sites, as well as methods for measuring early markers of adverse health effects and injuries; to develop new protective equipment, engineering control technology, and work practices to reduce the risks of occupational hazards; and, to evaluate the technical feasibility or application of a new or improved occupational safety and health procedure, method, technique, or system.

Eligible Applicants: Eligible applicants include domestic and foreign, public and private nonprofit and for-profit organizations and by governments and their agencies; that is, universities, colleges, research institutions, hospitals, and other public and private organizations, including state and local governments or their bona fide agents, and federally recognized Indian tribal governments, Indian tribes, or Indian tribal organizations. Racial/ethnic minority individuals, women, and persons with disabilities are encouraged to apply as Principal Investigators. Faith-based organizations are eligible to apply for these funds.

Estimated Amount of This Competition: $4,000,000.

Estimated Number of Awards to be Made: 25.

Estimated or Average Size of Each Award: $30,000 to $200,000, average $150,000.

Estimated Project Period: Contact NIOSH Extramural Program Office.

Application Availability Date: Contact NIOSH Extramural Program Office.

Application Deadline: All (new) February 3, June 1, and October 1, 2004. Competing Continuation, Supplemental, and Revised Research Grant/Cooperative Agreements applications—March 1, 2004, July 1, 2004, and November 1, 2004. For request for application: Please contact program office or visit http://www.cdc.gov/niosh/extramur.html.

Project Award Date: From 4 to 5 months, with an additional 4 to 5 months for program review and funding.

Competition Title: Occupational Safety and Health Training.

Program Announcement Number: 04001.

CFDA Number: 93.263.

Program Contact Person: John Talty.

E-Mail Address: jtalty@cdc.gov.

Phone Number: (513) 533-4687.

Competition Description: The National Institute for Occupational Safety and Health (NIOSH) is mandated to provide an adequate supply of qualified personnel to carry out the purposes of the Occupational Safety and Health Act. The specific purpose of this program is to provide financial assistance to eligible applicants to assist in providing an adequate supply of qualified professional occupational safety and health personnel. The objective is to develop specialized professional and paraprofessional personnel in the occupational safety and health field with training in occupational medicine, occupational health nursing, industrial hygiene, and occupational safety. Projects are funded to support Occupational Safety and Health Education and Research Center Training Grants (ERCs) and Long-Term Training Project Grants (TPGs). ERCs are academic institutions that provide interdisciplinary graduate training and continuing education in the industrial hygiene, occupational health nursing, occupational medicine, occupational safety, and closely related occupational safety and health fields. The ERCs also serve as regional resource centers for industry, labor, government, and the public. TPGs are academic institutions that primarily provide single-discipline graduate training in the industrial hygiene, occupational health nursing, occupational medicine, occupational safety, and closely related occupational safety and health fields.

Eligible Applicants: Any public or private educational or training agency or institution that has demonstrated competency in the occupational safety and health field and is located in a State, the District of Columbia, the Commonwealth of Puerto Rico, the Virgin Islands, American Samoa, Guam, the Trust Territory of the Pacific Islands, Wake Island, Outer Continental Shelf lands defined in the Outer Continental Shelf Lands Act, Johnston Island, and any other U.S. Territory or Trust Territory not named herein are eligible to apply for an institutional training grant. Faith-based organizations are eligible to apply for these funds.

Estimated Amount of This Competition: $4,000,000.

Estimated Number of Awards to be Made: 12.

Estimated or Average Size of Each Award: ERC Grants: range: $400,000 to $800,000; average $600,000. Other: $20,000 to $500,000, average $58,000.

Estimated Project Period: Up to five years.

Application Availability Date: April 2003.

Application Deadline: July 1, 2004.

Project Award Date: FY 2004. Contact program office for updated information or visit http://www.cdc.gov/niosh/extramur.html.

Competition Title: Health and Safety Programs for Construction Work.

Program Announcement Number: NIOSH-5.

CFDA Number: 93.955.

Program Contact Person: Michael Galvin.

E-Mail Address: MGalvin@cdc.gov.

Phone Number: (404) 498-2524.

Competition Description: The purposes of this cooperative agreement are to develop, implement, and evaluate a national research program in prevention intervention effectiveness research and preventive service systems research in construction safety and health. Many of the National Occupational Research Agenda (NORA) priority areas are relevant to the construction industry and should be considered when responding to this Request for Assistance. These include, preventing hearing loss, back disorders, asthma, and dermatitis and reducing or eliminating traumatic injuries (caused by falls, electrocutions, struck-bys or contact with materials/objects). In addition, other high priority problems in construction are not explicitly included in NORA, such as silicosis and lead poisoning, which should be addressed. The overall project will respond to problems that are specific to different regions, different trades, and different industry sectors.

Eligible Applicants: Applications may be submitted by public and private nonprofit and for-profit organizations and by governments and their agencies; that is, universities, colleges, research institutions, hospitals, other public and private nonprofit and for-profit organizations, state and local governments or their bona fide agents, and federally recognized Indian tribal governments, Indian tribes, or Indian tribal organizations. Faith-based organizations are eligible to apply for these funds.

Estimated Amount of This Competition: $5,000,000.

Estimated Number of Awards to be Made: 1 or 2.

Estimated or Average Size of Each Award: $5,000,000.

Estimated Project Period: 3 to 5 years depending on availability of funds, with budget periods of 12 months.

Application Availability Date: November 2003. Contact program office for updated information or visit http://www.cdc.gov/niosh/extramur.html.

Application Deadline: February 3, 2004.

Project Award Date: FY 2004. Contact program office for updated information or visit http://www.cdc.gov/niosh/extramur.html.

Competition Title: Surveillance Program.

Program Announcement Number: NIOSH-6.

CFDA Number: 93.957.

Program Contact Person: Gwendolyn Cattledge.

E-Mail Address: GCattledge@cdc.gov.

Phone Number: (404) 498-2508.

Competition Description: To (1) Recognize new hazards; (2) define the magnitude of the problem; (3) follow trends in incidence; (4) target exceptional hazardous workplaces for intervention; and (5) evaluate the effectiveness of prevention efforts. The goal of this program is to prevent selected occupational morbidity and mortality by evaluating work situations at high risk and formulating and disseminating prevention strategies to those who can intervene in the workplace.

Eligible Applicants: Applications may be submitted by public and private nonprofit and for-profit organizations and by governments and their agencies; that is, universities, colleges, research institutions, hospitals, other public and private nonprofit and for-profit organizations, state and local governments or their bona fide agents, and federally recognized Indian tribal governments, Indian tribes, or Indian tribal organizations. Faith-based organizations are eligible to apply for these funds.

Estimated Amount of This Competition: $500,000.

Estimated Number of Awards to be Made: varies.

Estimated or Average Size of Each Award: Surveillance program $100,000 to $200,000, average $150,000.

Estimated Project Period: Awards may be made up to 4 years as indicated below depending on availability of funds, with budget periods of 12 months. Surveillance program-up to 4 years.

Application Availability Date: Contact NIOSH Extramural Program Office or visit http://www.cdc.gov/niosh/extramur.html.

Application Deadline: April 1, 2004.

Project Award Date: Contact NIOSH Extramural Program Office or visit http://www.cdc.gov/niosh/extramur.html.

Dated: September 30, 2003.
Edward J. Schultz,
Acting Director, Procurement and Grants Office, Centers for Disease Control and Prevention.

[FR Doc. 03-25240 Filed 10-6-03; 8:45 am]

BILLING CODE 4163-18-P